ENVIRONMENTAL PROTECTION AGENCY

[ER-FRL-6627-7]

Environmental Impact Statements; Notice of Availability

Responsible Agency: Office of Federal Activities, General Information, (202) 564-7167 or www.epa.gov/oeca/ofa.

Weekly receipt of Environmental Impact Statements

Filed March 18, 2002 Through March 22, 2002

Pursuant to 40 CFR 1506.9.

EIS No. 020111, DRAFT EIS, AFS, MT, Lolo National Forest Post Burn Management Activities, Implementation, Ninemile, Superior and Plains Ranger Districts, Mineral Missoula and Sanders Counties, MT, Comment Period Ends: May 13, 2002, Contact:Deborah L. R. Austin (406) 329-3750.

EIS No. 020112, DRAFT EIS, AFS, ID, Brush Boulder Project, Proposed Vegetation Management, Road Construction, Reconstruction and Decommissioning, North Fork Payette River, Boise National Forest, Cascade Ranger District, Valley County, ID, Comment Period Ends: May 13, 2002, Contact:Keith Dimmett (208) 382-7430.

EIS No. 020113, FINAL EIS, BLM, NM, Santo Domingo Pueblo and Bureau of Land Management Proposed Land Exchange Project, Sandoval and Santa Fe Counties, NM, Wait Period Ends: April 29, 2002, Contact:Debby Lucero (505) 761-8787.

EIS No. 020114, DRAFT EIS, BLM, CA, Imperial Sand Dunes Recreation Area, Revising and Updating the Recreation Area Management Plan and Amendment to the California Desert Conservation Area Plan, Imperial County, CA, Comment Period Ends: June 28, 2002, Contact: Jim Komastinsky (760) 337-4427.

EIS No. 020115, FINAL EIS, FHW, MO, MO-63Corridor Project, Transportation Improvement extending from south of the Phelps/Maries County Line and South of Route W near Vida, Funding and COE Section 404 Permit, City of Rolla, Phelps and Maries Counties, MO, Wait Period Ends: April 29, 2002, Contact: Allen Masuda (573) 638-2620.

EIS No. 020116, DRAFT EIS, COE, FL, Miami River Project, River Sediments Dredging and Disposal Maintenance Dredging, Dredged Material Management Plan, Biscayne Bay, City of Miami, Miami-Dade County, FL, Comment Period Ends: May 13, 2002, Contact: Kenneth R. Dugger (904) 232-1686.

EIS No. 020117, DRAFT SUPPLEMENT, FHW, WV, New River Parkway Project, New and Relevant Information, Design, Construction and Management between I-64 Interchanges to Hinton, Raleigh and Summers Counties, WV, Comment Period Ends: June 07, 2002, Contact: Greg Akers (304) 558-2885.

EIS No. 020118, DRAFT EIS, FHW, NC, Second Bridge to Oak Island project, Transportation Improve from SR-1104 (Beach Drive) to NC-211, COE Section 404 Permit and US Coast Guard Permit, Federal Aid Project No. STP.1105(6), State Project No. 8.2231201, and TIP NO. R-2245, Brunswick County, NC, Comment Period Ends Due: April 29, 2002, Contact: Nicholas L. Graf (919) 856-4346.

EIS No. 020119, DRAFT EIS, BPA, WA, Maiden Wind Farm Project, Proposes to Construct and Operate up to 494 megawatts (MW) Wind Generation on Privately- and Publicly-Owned Property, Conditional Use Permits, Benton and Yakima Counties, WA, Comment Period Ends: May 15, 2002, Contact: Sarah Branun (503) 230-5115. This document is available on the Internet at: http://www.efw.bpa.gov.

EIS No. 020120, FINAL EIS, CGD, Programmatic EIS—Integrated Deepwater System Project, For Surface, Air, Logistics Communication and Sensor Systems, To Replace Its Aging Nation-Wide System, Nation-Wide, Wait Period Ends: April 29, 2002, Contact:Eric Johnson (202) 267-1665.

Amended Notices

EIS No. 020089, DRAFT EIS, FHW, WV, KY, Appalachian Corridor I-66 Highway Construction, US 23/119 south of Pikeville, KY eastward to the King Coal Highway southeast of Matewan, Funding and US Army COE Section 404 Permits Issuance, Pike County, KY and Mingo County, WV, Comment Period Ends:April 29, 2002, Contact: Jose Sepulveda (502) 223-6720. Revision of FR Notice Published on 03/15/2002: Federal Highway Administration Inadvertently Provided EPA with the Misspelling of the Contact Person's Name and the Incorrect Phone Number. The Correct Spelling of the Contact Person's Name is Sepulveda and the Correct Phone Number is 502-223-6720.

Dated: March 26, 2002.
B. Katherine Biggs,
Associate Director, NEPA Compliance Division, Office of Federal Activities.

[FR Doc. 02-7647 Filed 3-28-02; 8:45 am]

BILLING CODE 6560-50-P